DEPARTMENT OF HOUSING AND URBAN DEVELOPMENT

[Docket No. FR-4971-N-45]

Notice of Submission of Proposed Information Collection to OMB; Builder's Certification/Guarantee and New Construction Subterranean Termite Soil Treatment Record

AGENCY: Office of the Chief Information Officer, HUD.

ACTION: Notice.

SUMMARY: The proposed information collection requirement described below has been submitted to the Office of Management and Budget (OMB) for review, as required by the Paperwork Reduction Act. The Department is soliciting public comments on the subject proposal.

This is a request for approval to continue the request for the subject information from the public.

Builders must certify HUD insured structures are free of termite hazards. An authorized pest control company must perform treatments for termites. The builder guarantees the treated area against infestation for one year.

DATES: Comments Due Date: October 21, 2005.

ADDRESSES: Interested persons are invited to submit comments regarding this proposal. Comments should refer to the proposal by name and/or OMB approval Number (2502-0525) and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; or Lillian Deitzer at Lillian_L_Deitzer@HUD.gov or telephone (202) 708-2374. This is not a toll-free number. Copies of available documents submitted to OMB may be obtained from Mr. Eddins or Ms. Deitzer or from HUD's Web site at http://hlannwp031.hud.gov/po/i/icbts/collectionsearch.cfm.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Builder's Certification/Guarantee and New Construction Subterranean Termite Soil Treatment Record.

OMB Approval Number: 2502-0525.

Form Numbers: HUD-NPCA-99-A and HUD-NPCA-99-B.

Description of the Need for the Information and its Proposed Use: Builders must certify HUD insured structures are free of termite hazards. An authorized pest control company must perform treatments for termites. The builder guarantees the treated area against infestation for one year.

Frequency of Submission: On occasion.

Reporting Burden: No reporting burden is claimed. A reassessment of the burden for this information collection has led to the determination that the information is a standard and usual business practice. The collection of this information is an industry-wide standard, not solely an FHA requirement. Frequency of use for FHA transactions is estimated at 54,000 annually.

Total Estimated Burden Hours: 0.

Status: Extension of a currently approved collection.

Authority: Section 3507 of the Paperwork Reduction Act of 1995, 44 U.S.C. 35, as amended.

Dated: September 14, 2005.
Wayne Eddins,
Departmental Paperwork Reduction Act Officer, Office of the Chief Information Officer.

[FR Doc. 05-18744 Filed 9-20-05; 8:45 am]

BILLING CODE 4210-72-P